DEPARTMENT OF HOMELAND SECURITY

[Docket No. DHS-2021-0051]

Identifying Recommendations To Support the Work of the Interagency Task Force on the Reunification of Families; Extension of Comment Period

AGENCY: Department of Homeland Security.

ACTION: Extension of comment period.

SUMMARY: The Department of Homeland Security (DHS), on behalf of the Interagency Task Force on the Reunification of Families (Task Force), is extending the deadline for the submission of public comments in response to its December 10, 2021 request for comments regarding ways to minimize the separation of migrant parents and legal guardians and children entering the United States, consistent with the law.

DATES: The deadline for the request for comments published December 10, 2021, at 86 FR 70512, is extended. Public comments must be submitted no later than January 25, 2022.

ADDRESSES: You may submit comments, identified by docket number DHS-2021-0051, through the Federal eRulemaking Portal: https://www.regulations.gov. Comments submitted in any other manner, including emails or letters sent to Task Force officials, may not be reviewed by the Task Force. The Task Force cannot accept any comments that are hand delivered or couriered. In addition, the Task Force cannot accept comments contained on any form of digital media storage devices, such as CDs/DVDs and USB drives. Due to COVID-19, the Task Force is also not accepting mailed comments at this time. If you cannot submit your comment by using https://www.regulations.gov, please contact Samantha Deshommes, Chief, Regulatory Coordination Division, Office of Policy and Strategy, U.S. Citizenship and Immigration Services, Department of Homeland Security, by telephone at (240) 721-3000 for alternate instructions.

FOR FURTHER INFORMATION CONTACT: Carrie Anderson, Director of Policy for the Family Reunification Task Force, U.S. Department of Homeland Security, (240) 721-3000 (this is not a toll-free number). Individuals with hearing or speech impairments may access the telephone numbers above via TTY by calling the toll-free Federal Information Relay Service at 1-877-889-5627.

SUPPLEMENTARY INFORMATION: December 10, 2021, at 86 FR 70512, DHS, on behalf of the Task Force, published a request for comments regarding ways to minimize the separation of migrant parents and legal guardians and children entering the United States, consistent with the law. The public comment period was initially set to expire at the end of January 10, 2022.

This notice extends the deadline to submit comments to no later than January 25, 2022.

This notice is issued under authority of 5 U.S.C. 552(a).

Michelle Brané,
Executive Director, Interagency Task Force on the Reunification of Families, U.S. Department of Homeland Security.

[FR Doc. 2021-27935 Filed 12-23-21; 8:45 am]

BILLING CODE 9110-9B-P